DEPARTMENT OF VETERANS AFFAIRS

[OMB Control No. 2900-0078]

Proposed Information Collection Activity: Proposed Collection; Comment Request

AGENCY: Office of Information and Technology, Department of Veterans Affairs.

ACTION: Notice.

SUMMARY: The Office of Information and Technology (IT), Department of Veterans Affairs (VA), is announcing an opportunity for public comment on the proposed collection of certain information by the agency. Under the Paperwork Reduction Act (PRA) of 1995, Federal agencies are required to publish notice in the Federal Register concerning each proposed collection of information, including each proposed extension of a previously approved collection, and allow 60 days for public comment in response to the notice. This notice solicits comments for information needed to obtain additional data to assist in identifying a specific veteran.

DATES: Written comments and recommendations on the proposed collection of information should be received on or before July 3, 2000.

ADDRESSES: Submit written comments on the collection of information to Barbara Epps (045A4), Department of Veterans Affairs, 810 Vermont Avenue, NW, Washington, DC 20420. Please refer to “OMB Control No. 900-0078” in any correspondence.

FOR FURTHER INFORMATION CONTACT: Barbara Epps at (202) 273-8013 or FAX (202) 273-5981.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, IT invites comments on: (1) whether the proposed collection of information is necessary for the proper performance of IT's functions, including whether the information will have practical utility; (2) the accuracy of IT's estimate of the burden of the proposed collection of information; (3) ways to enhance the quality, utility, and clarity of the information to be collected; and (4) ways to minimize the burden of the collection of information on respondents, including through the use of automated collection techniques or the use of other forms of information technology.

Title: Request to Correspondent for Identifying Information, VA Form Letter 70-2.

OMB Control Number: 2900-0078.

Type of Review: Extension of a previously approved collection.

Abstract: The form letter is used to obtain additional information from a correspondent when the incoming correspondence does not provide sufficient information to identify a veteran. VA personnel use the information to identify the veteran, determine the location of a specific file, and to accomplish the action requested by the correspondent such as; process a benefit claim or file material in the individual's claims folder. Completion of the form is voluntary and failure to furnish the requested information has no adverse effect on either the veteran or the correspondent.

Affected Public: Individuals or households.

Estimated Annual Burden: 3,750 hours.

Estimated Average Burden Per Respondent: 5 minutes.

Frequency of Response: On occasion.

Estimated Number of Respondents: 45,000.

Dated: April 13, 2000.
Donald L. Neilson,
Director, Information Management Service.

[FR Doc. 00-11084 Filed 5-3-00; 8:45 am]

BILLING CODE 8320-01-P